DEPARTMENT OF ENERGY

Ultra-Deepwater Advisory Committee

AGENCY: Department of Energy, Office of Fossil Energy.

ACTION: Notice of open meeting.

SUMMARY: This notice announces a meeting of the Ultra-Deepwater Advisory Committee. The Federal Advisory Committee Act (Pub. L. 92-463, 86 Stat. 770) requires that public notice of this meeting be announced in the Federal Register.

DATES: Wednesday, April 6, 2011, 8 a.m.-5 p.m. (CDT). Thursday, April 7, 2011, 8 a.m.-4 p.m. (CDT).

ADDRESSES: Crowne Plaza Hotel, Houston North—Greenspoint, 425 North Sam Houston Parkway East, Houston, Texas 77060.

FOR FURTHER INFORMATION CONTACT: Elena Melchert, U.S. Department of Energy, Office of Oil and Natural Gas, Washington, DC 20585. Phone: (202) 586-5600.

SUPPLEMENTARY INFORMATION: Purpose of the Committee: The purpose of the Ultra-Deepwater Advisory Committee is to provide advice on the development and implementation of programs related to ultra-deepwater architecture and technology to the Secretary of Energy and provide comments and recommendations and priorities for the Department of Energy Annual Plan per requirements of the Energy Policy Act of 2005, Title IX, Subtitle J, Section 999D.

Tentative Agenda

April 6

7:30 a.m. Registration.

8 a.m.-4:45 p.m. Welcome & Introductions, Opening Remarks, and Discussion of Subcommittee Reports, and Findings regarding the Draft 2011 Annual Plan.

4:45 p.m. Public Comments, if any.

5 p.m. Adjourn.

April 7

7:30 a.m. Registration.

8 a.m.-4 p.m. Discussion of Recommendations regarding the Draft 2011 Annual Plan.

4 p.m. Adjourn.

Public Participation: The meeting is open to the public. The Designated Federal Officer and the Chairman of the Committee will lead the meeting for the orderly conduct of business. If you would like to file a written statement with the Committee, you may do so either before or after the meeting. If you would like to make oral statements regarding any of the items on the agenda, you should contact Elena Melchert at the address or telephone number listed above. You must make your request for an oral statement at least two business days prior to the meeting, and reasonable provisions will be made to include the presentation on the agenda. Public comment will follow the three-minute rule.

Minutes: The minutes of this meeting will be available for public review and copying within 60 days by contact Ms. Melchert at the address above or at the Committee's Web site: http://www.fossil.energy.gov/programs/oilgas/advisorycommittees/UltraDeepwater.html.

Issued at Washington, DC, on March 8, 2011.
LaTanya Butler,
Acting Deputy Committee Management Officer.

[FR Doc. 2011-5806 Filed 3-11-11; 8:45 am]

BILLING CODE 6450-01-P